DEPARTMENT OF TRANSPORTATION

Federal Motor Carrier Safety Administration

[Docket No. FMCSA-2016-0412]

Post-Accident Reporting (PAR) Advisory Committee Meeting: Public Meeting

AGENCY: Federal Motor Carrier Safety Administration (FMCSA), DOT.

ACTION: Announcement of advisory committee public meeting.

SUMMARY: FMCSA announces a meeting of its Post-Accident Reporting (PAR) Advisory Committee on Tuesday, and Wednesday, December 6 and 7, 2016. The PAR Advisory Committee will continue the work it began as a subcommittee of the Motor Carrier Safety Advisory Committee (MCSAC) in April 2016 at the meeting of the Commercial Vehicle Safety Alliance (CVSA). Under section 5306 of the FAST Act, the PAR is charged with reviewing post-accident reports and making recommendations on the data elements required by the reports and any modifications that may improve their use through the addition of data elements. The PAR will deliberate on Task 16-1 and make recommendations to the FMCSA Administrator for transmittal to the Secretary. The meeting is open to the public for its entirety.

TIMES AND DATES: The meeting will be held on Tuesday, December 6 and Wednesday, December 7, 2016, from 9:15 a.m. to 5 p.m., Eastern Time (E.T.), at the DoubleTree by Hilton Washington DC—Crystal City, 300 Army Navy Drive, Arlington, VA 22202. Copies of the task statement and an agenda for the entire meeting will be made available in advance of the meeting at http://par.fmcsa.dot.gov.

FOR FURTHER INFORMATION CONTACT: Ms. Shannon L. Watson, Senior Policy Advisor, Federal Motor Carrier Safety Administration, U.S. Department of Transportation, 1200 New Jersey Avenue SE., Washington, DC 20590, (202) 366-5221.

Services for Individuals With Disabilities: For information on facilities or services for individuals with disabilities or to request special assistance at the meeting, contact Eran Segev at (617) 494-3174, eran.segev@dot.gov, by Wednesday, November 30.

SUPPLEMENTARY INFORMATION:

I. Background

The U.S. Secretary of Transportation established the PAR Working Group as a discretionary committee under the Federal Advisory Committee Act (FACA, 5 U.S.C. App 2) on October 13, 2016, making it effective through October 13, 2018. The PAR Working Group provides advice and recommendations to the FMCSA Administrator on post-accident reporting requirements, specifically those in section 5306, operating in accordance with FACA.

II. Meeting Participation

Oral comments from the public will be heard throughout the meeting, at the discretion of the PAR chairman. Members of the public may submit written comments on the topics to be considered during the meeting by Wednesday, November 30, to Federal Docket Management System (FDMC) Docket Number FMCSA-2016-0412 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: November 16, 2016.
Larry W. Minor,
Associate Administrator for Policy.

[FR Doc. 2016-28015 Filed 11-21-16; 8:45 am]

BILLING CODE 4910-EX-P